POSTAL SERVICE

Revision to Mailing Standards for the Transport of Lithium Batteries

AGENCY: Postal Service™.

ACTION: Notice of prospective revision of standards; invitation to comment.

SUMMARY: The Postal Service is preparing to revise Publication 52, Hazardous, Restricted, and Perishable Mail, in various sections to provide new mailing standards for lithium batteries. Prior to making these revisions, the Postal Service believes that it is appropriate to invite comments regarding the nature and scope of the contemplated changes.

DATES: The Postal Service must receive written comments on or before March 24, 2017.

ADDRESSES: Mail or deliver written comments to the manager, Product Classification, U.S. Postal Service, 475 L'Enfant Plaza SW., Room 4446, Washington, DC 20260-5015. If sending comments by email include the name and postal address of the commenter and send to ProductClassification@usps.gov, with a subject line of “ATTN: Lithium Batteries.” Faxed comments are not accepted. You may inspect and photocopy all written comments, by appointment only, at USPS® Headquarters Library, 475 L'Enfant Plaza SW., 11th Floor North, Washington, DC 20260. These records are available for review Monday through Friday, 9 a.m.-4 p.m., by calling 202-268-2906.

FOR FURTHER INFORMATION CONTACT: Michelle Lassiter (202) 268-2914, or Kevin Gunther (202) 268-7208.

SUPPLEMENTARY INFORMATION:

Overview

Pursuant to the Mailing Standards of the United States Postal Service, Domestic Mail Manual (DMM®), section 601.8.2, Publication 52 provides mailing standards specific to hazardous, restricted and perishable items and materials, including lithium batteries. As discussed in more detail below, the Postal Service is preparing to make revisions to Publication 52 in order to align its mailing standards for shipments of lithium batteries with the regulations of the applicable regulatory agencies. The Postal Service believes these changes are necessary to facilitate the movement of mailpieces containing lithium batteries in USPS networks, including contracted transportation services obtained from commercial sources.

Pending Revisions to Publication 52

Specifically, the Postal Service finds that it will be necessary to make revisions in order to align with the proposed changes to lithium battery transportation from the Department of Transportation (DOT), Pipeline and Hazardous Materials Safety Administration (PHMSA), and to maintain consistency with international regulations and standards. In addition, the Postal Service intends to revise Publication 52 to align with the International Civil Aviation Organization's Technical Instructions for the Safe Transport of Dangerous Goods by Air (ICAO Technical Instructions) with regard to the transportation of lithium batteries by air.

PHMSA Rulemaking

On September 7, 2016 (81 FR 61742), PHMSA issued a notice of proposed rulemaking [Docket Number 2015-0273 (HM-215N)] titled “Hazardous Materials: Harmonization with International Standards (RRR)” with the intention to maintain consistency with international regulations and standards by incorporating various amendments, including changes to proper shipping names, hazard classes, packing groups, special provisions, packaging authorizations, air transport quantity limitations, and vessel stowage requirements. In its proposed final rule, PHMSA relates its intent to harmonize its Hazardous Materials Regulations (HMR) with recent changes made to the International Maritime Dangerous Goods Code, the ICAO Technical Instructions, and the United Nations Recommendations on the Transport of Dangerous Goods—Model Regulations.

Because of concerns for the exposure to risk associated with hazardous materials in its networks, the Postal Service accepts only a fraction of the materials regulated by PHMSA. As a result, the Postal Service expects few of the revisions addressed by PHMSA in its recent proposed rulemaking to have an impact on Postal Service mailing standards. With regard to lithium batteries, the Postal Service generally accepts only those cells and batteries eligible for the PHMSA's exceptions for smaller cells and batteries under 49 CFR 173.185(c). In this notice, the Postal Service addresses only those revisions directly related to the transportation of lithium batteries, and only those expected to directly impact the movement of lithium batteries in Postal Service networks.

PHMSA Proposed Rule

The revisions discussed in the PHMSA proposed rule having direct effect on Postal Service networks include:

• PHMSA replaces the existing text marking requirements in 49 CFR 173.185(c)(3) with a standard lithium battery mark (shown below) for use in all transport modes, and removes the requirement in 49 CFR 173.185(c)(3) for shippers to provide an alternative document.

• PHMSA creates a new section containing a new Class 9 hazard warning label for lithium batteries. The label (shown below) consists of the existing Class 9 label with the addition of a figure in the lower half depicting a group of batteries with one broken and emitting a flame. The label is intended to appear on packages containing lithium batteries required to display hazard warning labels, and is intended to better communicate the specific hazards posed by lithium batteries.

• PHMSA amends 49 CFR 173.185(c)(2) and (c)(3)(i) to specify that outer packaging used to contain small lithium batteries must be rigid and of adequate size so the handling mark can be affixed on one side without the mark being folded. PHMSA provides a limited exception to the rigid outer packaging requirement when “the cell or battery is afforded equivalent protection by the equipment in which it is contained.”

• PHMSA modifies 49 CFR 175.185 to clarify the definition of a consignment of hazardous materials as “one or more packages of hazardous materials accepted by an operator from one shipper at one time and at one address, receipted for in one lot and moving to one consignee at one destination address.” PHMSA also expands the requirement in 49 CFR 173.185(c)(3) for lithium battery marks to appear on packages containing small lithium cells or batteries, or lithium cells or batteries packed with, or contained in, equipment when there are more than two packages in the consignment. PHMSA states that this requirement does not apply to a package containing button cell batteries installed in equipment (including circuit boards), or when there are not more than two packages in the consignment and the package contains no more than four lithium cells or two lithium batteries installed in the equipment.

ICAO Addenda

ICAO published addendum number 3 to its Technical Instructions on January 15, 2016, and addendum number 4 on February 23, 2016 (http://www.icao.int/safety/DangerousGoods/Pages/default.aspx). In these addenda, ICAO announced new regulations for lithium batteries in international air transportation. The ICAO revisions, with an effective date of April 1, 2016, detailed a number of new provisions including:

• The prohibition of lithium-ion (and lithium-ion polymer) batteries, shipped separately from the equipment they are intended to operate (categorized as identification number UN3480), on passenger aircraft.

• The restriction of UN3480 batteries and cells shipped via cargo aircraft to a maximum state of charge (SOC) of no more than 30 percent.

• The limitation of section II, UN3480 batteries and cells to a single package, when sent as a part of a consignment or overpack via cargo aircraft.

• The required use of an approved Cargo Aircraft Only (CAO) label on all packages of UN3480 batteries and cells transported via cargo aircraft.

Proposed USPS Mailing Standards

Within the next several weeks, the Postal Service intends to revise Publication 52 to align with PHMSA's proposed regulations, and to maintain consistency with international regulations and standards. As such, the Postal Service contemplates the following changes:

• The Postal Service would eliminate the current text marking option for mailpieces required to bear, or optionally permitted to bear, lithium battery markings, and limit markings to DOT-approved lithium battery handling marks only. Mailpieces restricted to surface transportation only, including those containing UN3090, lithium metal batteries shipped separately, will continue to be required to bear the current text marking in addition to a DOT-approved lithium battery handling mark. The Postal Service would also eliminate the requirement for accompanying documentation with mailings of lithium batteries.

• The Postal Service would add the new DOT class 9 hazard warning label for lithium batteries to Publication 52, Exhibit 325.1, DOT Hazardous Materials Warning Labels: PROHIBITED IN THE MAIL. Packages containing lithium batteries that are required to bear this label are prohibited in USPS networks.

• The Postal Service would align its standards with PHMSA's proposed regulations with regard to the requirement that the outer packaging used to contain small lithium batteries be rigid and of adequate size so the handling mark can be affixed on one side without the mark being folded. The Postal Service would also permit the use of padded or poly bags when cells or batteries are afforded equivalent protection by the equipment in which they are contained, but limit this exception only to batteries meeting the USPS definition of a button cell battery in 349.11(e) of Publication 52.

• The Postal Service would take no action with regard to the requirement for lithium battery markings to appear on packages containing lithium cells or batteries, or lithium cells or batteries packed with, or contained in, equipment when there are more than two packages in the consignment. The Postal Service would continue to define a consignment in postal terms as a single parcel, making any action regarding this PHMSA regulation unnecessary.

The Postal Service also expects to revise Publication 52 to align with the April 1, 2016, final version of the ICAO regulations described above. With regard to mail classes and products using air transportation, the Postal Service contracts with both passenger airlines and commercial air cargo providers. Depending on volume, schedules, and other operational factors, the Postal Service directs mail, including packages, between various air transportation providers as necessary. At times, such decisions are made during, or subsequent to the finalization and containerization of these mailpieces. Consequently, the Postal Service has concerns for its ability to reliably separate mail eligible for transport via passenger aircraft from that exclusive to cargo aircraft. Additionally, the Postal Service has noted that a number of commercial transportation providers have adopted procedures and policies compliant with the April 1, 2016, version of the ICAO regulations. To eliminate the potential for refusal of mail containing lithium batteries tendered to its contracted air carriers, the Postal Service proposes to align its mailing standards with the ICAO regulations. With regard to this alignment, the Postal Service contemplates the following changes:

• Prohibit UN3480 lithium-ion and lithium polymer batteries in USPS air transportation.

• Revise its quantity limitations for UN3480 lithium-ion and lithium polymer batteries in surface transportation to align with those for lithium metal batteries, changing from the previous eight cells or two batteries to an aggregate mailpiece limit of 5 pounds (while retaining its previous battery capacity limitations of 20 Wh/cell and 100 Wh/battery).

If it proceeds as planned, the Postal Service expects to provide for an implementation date approximately 60 days following notice of its adoption of these proposed revised mailing standards, and may entertain requests for limited extensions if necessary.

Stanley F. Mires,
Attorney, Federal Compliance.

[FR Doc. 2017-03397 Filed 2-21-17; 8:45 am]

BILLING CODE 7710-12-P